DEPARTMENT OF STATE

[Public Notice 3482]

Bureau of Nonproliferation; Imposition of Missile Proliferation Sanctions Against Entities in Iran and Pakistan

AGENCY: Bureau of Nonproliferation, Department of State.

ACTION: Notice.

SUMMARY: The United States Government has determined that entities in Iran and Pakistan have engaged in missile technology proliferation activities that require imposition of sanctions pursuant to the Arms Export Control Act, as amended, and the Export Administration Act of 1979, as amended (as carried out under Executive Order 12924 of August 19, 1994).

EFFECTIVE DATE: November 21, 2000.

FOR FURTHER INFORMATION CONTACT: Vann H. Van Diepen, Office of Chemical, Biological and Missile Nonproliferation, Bureau of Nonproliferation, Department of State (202-647-1142).

SUPPLEMENTARY INFORMATION: Pursuant to Section 73(a)(1) of the Arms Export Control Act (22 U.S.C. 2797b(a)(1)); Section 11B(b)(1) of the Export Administration Act of 1979 (50 U.S.C. app. 2401b(b)(1)), as carried out under Executive Order 12924 of August 19, 1994 (hereinafter cited as the “Export Administration Act of 1979”); and Executive Order 12851 of June 11, 1993; the United States Government determined on November 21, 2000 that:

I. The following foreign person has engaged in missile technology proliferation activities that require the imposition of the sanctions described in Section 73(a)(2)(B) and (C) of the Arms Export Control Act (22 U.S.C. 2797b(a)(2)(B) and (C)) and Section 11B(b)(1)(B)(ii) and (iii) of the Export Administration Act of 1979 (50 U.S.C. app. 2410b(b)(1)(B)(ii) and (iii) on this entity: Ministry of Defense (Pakistan) and its sub-units and successors.

Accordingly, the following sanctions are being imposed on this entity:

(A) New individual licenses for exports to the entity described above of items controlled pursuant to the Export Administration Act of 1979 will be denied for two years;

(B) New licenses for export to the entity described above of items controlled pursuant to the Arms Export Control Act will be denied for two years;

(C) No new United States Government contracts involving the entity described above will be entered into for two years; and

(D) No products produced by the entity described above will be imported into the United States for two years.

II. The following foreign person has engaged in missile technology proliferation activities that require the imposition of the sanctions described in Section 73(a)(2)(B) of the Arms Export Control Act (22 U.S.C. 2797b(a)(2)(B)) and Section 11B(b)(1)(B)(ii) of the Export Administration Act of 1979 (50 U.S.C. app. 2410b(b)(1)(B)(ii)) on this entity: Space and Upper Atmosphere Research Commission (SUPARCO) (Pakistan) and its sub-units and successors.

Accordingly, the following sanctions are being imposed on this entity:

(A) New individual licenses for exports to the entity described above of items controlled pursuant to the Export Administration Act of 1979 will be denied for two years;

(B) New licenses for export to the entity described above of items controlled pursuant to the Arms Export Control Act will be denied for two years; and

(C) No new United States Government contracts involving the entity described above will be entered into for two years.

III. The following foreign persons have engaged in missile technology proliferation activities that require the imposition of the sanctions described in Section 73(a)(2)(A) of the Arms Export Control Act (22 U.S.C. 2797b(a)(2)(A)) and Section 11B(b)(1)(B)(i) of the Export Administration Act of 1979 (50 U.S.C. app. 2410b(b)(1)(B)(i)) on these entities:

1. Defense Industries Organization (DIO) (Iran) and its sub-units and successors; and

2. Ministry of Defense and Armed Forces Logistics (MODAFL) (Iran) and its sub-units and successors.

Accordingly, the following sanctions are being imposed on these entities:

(A) New individual licenses for exports to the entities described above of Missile Technology Control Regime (MTCR) equipment or technology controlled pursuant to the Export Administration Act of 1979 will be denied for two years;

(B) New licenses for export to the entities described above of Missile Technology Control Regime (MTCR) equipment or technology controlled pursuant to the Arms Export Control Act will be denied for two years; and

(C) No new United States Government contracts relating to Missile Technology Control Regime (MTCR) equipment or technology and involving the entities described above will be entered into for two years.

With respect to items controlled pursuant to the Export Administration Act of 1979, the export sanctions described in items (I) to (III) above only apply to exports made pursuant to individual export licenses.

The measures described in items (I) to (III) above shall be implemented by the responsible agencies as provided in Executive Order 12851 of June 11, 1993.

Dated: November 21, 2000.
Robert J. Einhorn,
Assistant Secretary of State for Nonproliferation, Department of State.

[FR Doc. 00-30553 Filed 11-29-00; 8:45 am]

BILLING CODE 4710-25-U